DEPARTMENT OF LABOR

Employment and Training Administration

[TA-W-61,457]

Featherlite, Inc. Shenandoah, IA; Notice of Termination of Investigation

Pursuant to Section 221 of the Trade Act of 1974, as amended, an investigation was initiated on May 7, 2007 in response to a petition filed by a company official on behalf of workers at Featherlite, Inc., Shenandoah, Iowa. The workers at the subject facility produce steel trailers.

The petitioner has requested that the petition be withdrawn. Consequently, the investigation has been terminated.

Signed in Washington, DC. this 13th day of June 2007.
Richard Church,
Certifying Officer,Division of Trade Adjustment Assistance.

[FR Doc. E7-11831 Filed 6-19-07; 8:45 am]

BILLING CODE 4510-FN-P